INTERNATIONAL TRADE COMMISSION

[Investigations Nos. 731-TA-1034 and 1035 (Preliminary)]

Certain Color Television Receivers From China and Malaysia

Determinations

On the basis of the record ¹ developed in the subject investigations, the United States International Trade Commission (Commission) determines, pursuant to section 733(a) of the Tariff Act of 1930 (19 U.S.C. 1673b(a)) (the Act), that there is a reasonable indication that an industry in the United States is materially injured by reason of imports from China and Malaysia of certain color television receivers, provided for in subheadings 8528.12.28, 8528.12.32, 8528.12.36, 8528.12.40, 8528.12.44, 8528.12.48, 8528.12.52, and 8528.12.56 of the Harmonized Tariff Schedule of the United States, that are alleged to be sold in the United States at less than fair value (LTFV).²

¹ The record is defined in sec. 207.2(f) of the Commission's Rules of Practice and Procedure (19 CFR 207.2(f)).

² Chairman Deanna Tanner Okun did not participate in these investigations.

Background

On May 2, 2003, a petition was filed with the Commission and Commerce by Five Rivers Electronic Innovations, LLC, Greeneville, TN, the International Brotherhood of Electrical Workers (“IBEW”), Washington, DC, and the IUE-CWA, the Industrial Division of the Communications Workers of America, Washington, DC, alleging that an industry in the United States is materially injured and threatened with further material injury by reason of LTFV imports of certain color television receivers from China and Malaysia. Accordingly, effective May 2, 2003, the Commission instituted antidumping duty investigations Nos. 731-TA-1034 and 1035 (Preliminary).

Notice of the institution of the Commission's investigations and of a public conference to be held in connection therewith was given by posting copies of the notice in the Office of the Secretary, U.S. International Trade Commission, Washington, DC, and by publishing the notice in the Federal Register of May 13, 2003 (68 FR 25627). The conference was held in Washington, DC, on May 23, 2003, and all persons who requested the opportunity were permitted to appear in person or by counsel.

The Commission transmitted its determinations in these investigations to the Secretary of Commerce on June 16, 2003. The views of the Commission are contained in USITC Publication 3607 (June 2003), entitled Certain Color Television Receivers from China and Malaysia: Investigations Nos. 731-TA-1034 and 1035 (Preliminary).

By Order of the Commission.
Issued: June 18, 2003.
Marilyn R. Abbott,
Secretary.

[FR Doc. 03-16173 Filed 6-25-03; 8:45 am]

BILLING CODE 7020-02-P